DEPARTMENT OF THE INTERIOR

National Park Service

[NPS-WASO-NAGPRA-NPS0039137; PPWOCRADN0-PCU00RP14.R50000]

Notice of Inventory Completion: Office of History and Archaeology, Anchorage, AK

AGENCY: National Park Service, Interior.

ACTION: Notice.

SUMMARY: In accordance with the Native American Graves Protection and Repatriation Act (NAGPRA), the Office of History and Archaeology has completed an inventory of human remains and has determined that there is a cultural affiliation between the human remains and Indian Tribes or Native Hawaiian organizations in this notice.

DATES: Repatriation of the human remains in this notice may occur on or after January 6, 2025.

ADDRESSES: Richard VanderHoek, Ph.D., Office of History and Archaeology, 550 W 7th Avenue, Suite 1310, Anchorage, AK 99501-3561, telephone (907)-269-8728, email richard.vanderhoek@alaska.gov.

SUPPLEMENTARY INFORMATION: This notice is published as part of the National Park Service's administrative responsibilities under NAGPRA. The determinations in this notice are the sole responsibility of the Office of History and Archaeology, and additional information on the determinations in this notice, including the results of consultation, can be found in its inventory or related records. The National Park Service is not responsible for the determinations in this notice.

Abstract of Information Available

Human remains representing at least two individuals have been identified, with one mandible (jawbone), and two cranial (skull) fragments. No associated funerary objects are present. The remains were found by Henry Wilson of Kotzebue, AK along the beach between Sealing Point (Cape Krusenstern National Monument) and Kivalina. Wilson brought the remains to the NPS Northwest Arctic Heritage Center on September 23, 2014 for identification. Michael Wendt, Project Archaeologist for NPS Western Arctic National Parklands notified the State Historic Preservation Office. OHA and SHPO received the remains on 10/2/2014. The box containing the remains and some documentation was found in the OHA lab 2/2024. Age is unknown, but the remains are probably archaeological.

Cultural Affiliation

Based on the information available and the results of consultation, cultural affiliation is reasonably identified by the geographical location or acquisition history of the human remains described in this notice.

Determinations

The Office of History and Archaeology has determined that:

• The human remains described in this notice represent the physical remains of two individuals of Native American ancestry.

• There is a connection between the human remains described in this notice and the Native Village of Kivalina.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 6, 2025. If competing requests for repatriation are received, the Office of History and Archaeology must determine the most appropriate requestor prior to repatriation. Requests for joint repatriation of the human remains are considered a single request and not competing requests. The Office of History and Archaeology is responsible for sending a copy of this notice to the Indian Tribes and Native Hawaiian organizations identified in this notice.

Authority: Native American Graves Protection and Repatriation Act, 25 U.S.C. 3003, and the implementing regulations, 43 CFR 10.10.

Dated: November 22, 2024.
Melanie O'Brien,
Manager, National NAGPRA Program.

[FR Doc. 2024-28493 Filed 12-4-24; 8:45 am]

BILLING CODE 4312-52-P